ENVIRONMENTAL PROTECTION AGENCY

[OPP-2002-0077; FRL-7179-8]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn, the Agency will approve these use deletions and the deletions will become effective on December 2, 2002.

FOR FURTHER INFORMATION CONTACT: By mail: James A.Hollins, Information Resources Services Division 7502C, Office of Pesticide Programs, Environmental Protection Agency, 1200 Pennsylvania Ave., NW., Washington, DC 20460; telephone number: (703) 305-5761; e-mail address:hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. What Action is the Agency Taking?

This notice announces receipt by the Agency of applications from registrants to cancel 67 pesticide products registered under section 3 or 24(c) of FIFRA. These registrations are listed in sequence by registration number (or company number and 24(c) number) in Table 1 of this unit:

Table 1.—Registrations With Pending Requests for Cancellation
Registration no. | Product Name | Chemical Name
000052-00208 | Germ Warfare Concentrated Detergent Germicide | Sodium 2-benzyl-4-chlorophenate
|  | Sodium o-phenylphenate
|  | p-tert-Amylphenol, sodium salt
000100-01019 | Eptam 2.3 G | S-Ethyl dipropylthiocarbamate
000100 FL-89-0025 | D.Z.N. Diazinon AG 500 | O,O-Diethyl O-(2-isopropyl-6-methyl-4-pyrimidinyl) phosphorothioate
000100 FL-90-0002 | Pennant Liquid Herbicide | 2-Chloro-N-(2-ethyl-6-methylphenyl)-N-(2-methoxy-1-methylphenyl)acetamide (9CI)
000192-00195 | Dexol Lawn & Garden Fungicide with Daconil 2787 | Tetrachloroisophthalonitrile
000241 OR-00-0031 | Raptor Herbicide | (+-)-2-(4,5-Dihydro-4-methyl-4-(1-methylethyl)-5-oxo-1H-imidazol-2-
000264-00639 | Brestan H 47.5 WP Fungicide | Triphenyltin hydroxide
000264 OR-94-0014 | Dodine 65W | Dodecylguanidine acetate
000264 WA-93-0011 | Nortron Flowable Herbicide | 2-Ethoxy-2,3-dihydro-3,3-dimethyl-5-benzofuranyl methanesulfonate, (+-)-
000264 WA-95-0020 | Nortron Flowable Herbicide | 2-Ethoxy-2,3-dihydro-3,3-dimethyl-5-benzofuranyl methanesulfonate, (+-)-
000279 FL-77-0039 | Niagara Ethion 4 Miscible Miticide Insecticide | O,O,O',O'-Tetraethyl S,S'-methylene bis(phosphorodithioate)
000432 OR-96-0022 | Acclaim 1EC Herbicide | 2-(4-((6-Chloro-2-benzoxazolyl)oxy)phenoxy)propionic acid, ethyl ester, (+-)-
000524 ND-99-0013 | MON-65005 Herbicide | Isopropylamine glyphosate (N-(phosphonomethyl)glycine)
000675-00025 | Amphyl Disinfectant Deodorant Spray | Ethanol
|  | o-Phenylphenol
000675-00046 | New O-Syl Disinfectant - Detergent | 2-Benzyl-4-chlorophenol
|  | o-Phenylphenol
000769-00633 | Smcp Ethion EM-4 | O,O,O',O'-Tetraethyl S,S'-methylene bis(phosphorodithioate)
001769-00174 | Watrol | 6,7-Dihydrodipyrido(1,2-a:2',1'-c)pyrazinediium dibromide
002517-00060 | Sergeant's Dual Action Flea and Tick Collar for Dogs | o-Isopropoxyphenyl methylcarbamate
|  | 2,2-Dichlorovinyl dimethyl phosphate
002935 OR-97-0003 | Orthene 75 S Soluble Powder | O,S-Dimethyl acetylphosphoramidothioate
003125-00173 | Di-Syston Seed Treatment Insecticide | O,O-Diethyl S-(2-(ethylthio)ethyl) phosphorodithioate
003125 ID-99-0001 | Admire 2 Flowable | 1-((6-Chloro-3-pyridinyl)methyl)-N-nitro-2-imidazolidinimine
003862-00118 | Di-Elec Wasp & Hornet Spray | (Butylcarbityl)(6-propylpiperonyl) ether 80% and related compounds 20%
|  | Bendiocarb (2,2-dimethyl-1,3-benzoldioxol-4-yl methylcarbamate)
005481-00270 | AMVAC Ethion 4 Miscible for Citrus | O,O,O',O'-Tetraethyl S,S'-methylene bis(phosphorodithioate)
007173-00080 | Rozol Ready-To-Use Rat and Mouse Bait | 2-((p-Chlorophenyl)phenylacetyl)-1,3-indandione
007173-00128 | Rozol Rat and Mouse Killer | 2-((p-Chlorophenyl)phenylacetyl)-1,3-indandione
007173-00161 | Rozol Rat and Mouse Killer Pellets | 2-((p-Chlorophenyl)phenylacetyl)-1,3-indandione
007173-00171 | Maki Rat and Mouse Meal Bait | 3-(3-(4'-Bromo-(1,1'-biphenyl)-4-yl)-3-hydroxy-1-phenylpropyl)-4-hydroxy-2H-1-
007173-00184 | Rozol Pocket Gopher Bait | 2-((p-Chlorophenyl)phenylacetyl)-1,3-indandione
007173-00186 | Maki Rat and Mouse Meal Bait | 3-(3-(4'-Bromo-(1,1'-biphenyl)-4-yl)-3-hydroxy-1-phenylpropyl)-4-hydroxy-2H-1-
007173-00190 | Rozol Paraffin Blocks | 2-((p-Chlorophenyl)phenylacetyl)-1,3-indandione
007173-00195 | Ridall-Zinc Rodent Field & Agricultural Bait | Zinc phosphide (Zn3P2)
007173 AZ-77-0006 | Rozol Ground Squirrel Bait | 2-((p-Chlorophenyl)phenylacetyl)-1,3-indandione
007173 ID-92-0003 | Rozol Paraffinized Pellets | 2-((p-Chlorophenyl)phenylacetyl)-1,3-indandione
007173 OR-78-0018 | Rozol Rodenticide Ground Spray Concentrate | 2-((p-Chlorophenyl)phenylacetyl)-1,3-indandione
007173 UT-77-0001 | Rozol Paraffinized Pellets | 2-((p-Chlorophenyl)phenylacetyl)-1,3-indandione
007173 UT-78-0006 | Rozol Rodenticide Ground Spray Concentrate | 2-((p-Chlorophenyl)phenylacetyl)-1,3-indandione
007173 WA-78-0060 | Rozol Rodenticide Ground Spray Concentrate | 2-((p-Chlorophenyl)phenylacetyl)-1,3-indandione
007173 WV-77-0003 | Rodenticide Ground Spray Concentrate | 2-((p-Chlorophenyl)phenylacetyl)-1,3-indandione
007401-00113 | Ferti-Lome Citrus & Ornamental Spray | O,O,O',O'-Tetraethyl S,S'-methylene bis(phosphorodithioate)
|  | Aliphatic petroleum hydrocarbons
007501-00098 | Gustafson 2% Reldan Dust Insecticide | O,O-Dimethyl O-(3,5,6-trichloro-2-pyridyl) phosophorothioate
007501-00099 | Gustafson 3% Reldan Dust Insecticide | O,O-Dimethyl O-(3,5,6-trichloro-2-pyridyl) phosophorothioate
007501 ID-99-0002 | Gaucho 75 St Insecticide | 1-((6-Chloro-3-pyridinyl)methyl)-N-nitro-2-imidazolidinimine
007501 ID-99-0005 | MZ - Curzate | Gas cartidge (as a device for burrowing animal control)
|  | Zinc ion and manganese ethylenebisdithiocarbamate, coordination product
|  | 2-Cyano-N-((ethylamino)carbonyl)-2-(methoxyimino)acetamide
007501 NE-00-0001 | Evolve Potato Seed-Piece Treatment | Zinc ion and manganese ethylenebisdithiocarbamate, coordination product
|  | Dimethyl ((1,2-phenylene)bis(iminocarbonothioyl))bis(carbamate)
|  | 2-Cyano-N-((ethylamino)carbonyl)-2-(methoxyimino)acetamide
007501 NE-01-0001 | Tops-MZ-Gaucho | Gas cartidge (as a device for burrowing animal control)
|  | Zinc ion and manganese ethylenebisdithiocarbamate, coordination product
|  | Dimethyl ((1,2-phenylene)bis(iminocarbonothioyl))bis(carbamate)
|  | 1-((6-Chloro-3-pyridinyl)methyl)-N-nitro-2-imidazolidinimine
007501 NE-99-0004 | MZ - Curzate Potato Seed-Piece Treatment | Gas cartidge (as a device for burrowing animal control)
|  | Zinc ion and manganese ethylenebisdithiocarbamate, coordination product
|  | 2-Cyano-N-((ethylamino)carbonyl)-2-(methoxyimino)acetamide
007501 WA-99-0004 | Tops - MZ - Gaucho Potato Seed-Piece Treatment | Gas cartidge (as a device for burrowing animal control)
|  | Zinc ion and manganese ethylenebisdithiocarbamate, coordination product
|  | Dimethyl ((1,2-phenylene)bis(iminocarbonothioyl))bis(carbamate)
|  | 1-((6-Chloro-3-pyridinyl)methyl)-N-nitro-2-imidazolidinimine
007501 WA-99-0011 | Tops - MZ - CZ | Gas cartidge (as a device for burrowing animal control)
|  | Zinc ion and manganese ethylenebisdithiocarbamate, coordination product
|  | Dimethyl ((1,2-phenylene)bis(iminocarbonothioyl))bis(carbamate)
|  | 2-Cyano-N-((ethylamino)carbonyl)-2-(methoxyimino)acetamide
008536 FL-97-0006 | Methyl Bromide 98% | Methyl bromide
009198-00122 | The Andersons Turcam Insecticide I | Bendiocarb (2,2-dimethyl-1,3-benzoldioxol-4-yl methylcarbamate)
009688-00118 | Chemsico Granules Formula B | Bendiocarb (2,2-dimethyl-1,3-benzoldioxol-4-yl methylcarbamate)
010145-00007 | Vita-San WS | 2-Benzyl-4-chlorophenol
|  | Sodium o-phenylphenate
010163-00080 | Gowan Azinphos-M 2 EC | O,O-Dimethyl S-((4-oxo-1,2,3-benzotriazin-3(4H)-yl)methyl) phosphorodithioate
010163 OR-94-0045 | Imidan 70-WP Agricultural Insecticide | N-(Mercaptomethyl)phthalimide S-(O,O-dimethyl phosphorodithioate)
010163 OR-94-0047 | Imidan 70-WP Agricultural Insecticide | N-(Mercaptomethyl)phthalimide S-(O,O-dimethyl phosphorodithioate)
010807-00095 | Pine Oil Disinfectant | Pine oil
045639 OR-00-0009 | Hoelon 3EW Herbicide | Methyl 2-(2-(2,4-dichlorophenoxy)phenoxy)propanoate
048598-00003 | Insecto Formula 7 | Pine oil
051036 AZ-89-0011 | Dimethoate 4E Systemic Insecticide | O,O-Dimethyl S-((methylcarbamoyl)methyl) phosphorodithioate
051161 OR-93-0013 | Orthene 75 S Soluble Powder | O,S-Dimethyl acetylphosphoramidothioate
054555 TX-00-0001 | Dormex | Cyanamide
062719-00404 | Stampede CM Herbicide | 3',4'-Dichloropropionanilide
|  | 2-Ethylhexyl 2-methyl-4-chlorophenoxyacetate
067752 OR-93-0014 | Orthene 75 S Soluble Powder | O,S-Dimethyl acetylphosphoramidothioate
071368 WA-80-0081 | Weedar 64 Broad Leaf Herbicide | Dimethylamine 2,4-dichlorophenoxyacetate
071368 WA-85-0021 | Weedar 64 Broad Leaf Herbicide | Dimethylamine 2,4-dichlorophenoxyacetate
071368 WA-95-0037 | Weedar 64 (R) Broadleaf Herbicide | Dimethylamine 2,4-dichlorophenoxyacetate
071768-00001 | Bear Pause Attack Deterrent | Capsaicin (in oleoresin of capsicum)
There is a 30-day comment period on registrations for EPA company numbers 000279, 005481, 071768.

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company no. | Company Name and Address
000052 | W.P. Chemical Products, Inc., W. Penetone Corp., 74 Hudson Ave., Tenafly, NJ 07670.
000100 | Syngenta Crop Protection, Inc., Box 18300, Greensboro, NC 27419.
000192 | Value Gardens Supply, LLC, Box 585, St. Joseph, MO 64502.
000241 | BASF Corp., Box 13528, Research Triangle Park, NC 27709.
000264 | Aventis Cropscience USA LP, 2 T.W. Alexander Drive Box 12014, Research Triangle Park, NC 27709.
000279 | FMC Corp. Agricultural Products Group, 1735 Market St., Philadelphia, PA 19103.
000432 | Aventis Environmental Science USA LP, 95 Chestnut Ridge Rd., Montvale, NJ 07645.
000524 | Monsanto Co., 600 13th Street, NW, Suite 660, Washington, DC 20005.
000675 | Reckitt Benckiser Inc., 1655 Valley Rd., Wayne, NJ 07474.
000769 | Value Gardens Supply, LLC, Box 585, St. Joseph, MO 64502.
001769 | NCH Corp., 2727 Chemsearch Blvd., Irving, TX 75062.
002517 | Sergeant's Pet Products, Box 18993, Memphis, TN 38181.
002935 | Wilbur Ellis Co., 191 W. Shaw Ave, #107, Fresno, CA 93704.
003125 | Bayer Corp., Agriculture Division, 8400 Hawthorn Rd., Box 4913, Kansas City, MO 64120.
003862 | ABC Compounding Co, Inc., Box 16247, Atlanta, GA 30321.
005481 | AMVAC Chemical Corp., Attn: Jon C. Wood, 4695 Macarthur Ct., Suite 1250, Newport Beach, CA 92660.
007173 | LiphaTech, Inc., 3600 W. Elm Street, Milwaukee, WI 53209.
007401 | Brazos Associates, Inc., Agent For: Voluntary Purchasing Group Inc., 2001 Diamond Ridge Drive, Carrollton, TX 75010.
007501 | Gustafson LLC, 1400 Preston Rd., Suite 400, Planos, TX 75093.
008536 | Soil Chemicals Corp., D/b/a Cardinal Professional Products, Box 782, Hollister, CA 95024.
009198 | The Andersons Inc., Lawn Fertilizer Division, Box 119, Maumee, OH 43537.
009688 | Chemsico, Div of United Industries Corp., Box 142642, St Louis, MO 63114.
010145 | Blumberg Co. Inc., Box 1329, Newburyport, MA 01950.
010163 | Gowan Co., Box 5569, Yuma, AZ 85366.
010807 | AMREP, Inc., 990 Industrial Dr, Marietta, GA 30062.
045639 | Agrevo USA Co., Little Falls Centre One, 2711 Centerville Rd., Wilmington, DE 19808.
048598 | Natural Insecto Products, Inc., 221 Sherwood Place, Box 12138, Costa Mesa, CA 92627.
051036 | Micro-Flo Co. LLC, Box 772099, Memphis, TN 38117.
051161 | Round Butte Seed Growers Inc., 505 C Street, Box 117, Culver, OR 97734.
054555 | Siemer & Associates, Inc., Agent For: Degussa Ag., 4672 W. Jennifer, Suite 103, Fresno, CA 93722.
062719 | Dow AgroSciences LLC, 9330 Zionsville Rd., 308/2E225, Indianapolis, IN 46268.
067752 | Central Oregon Seed Inc., 1747 NW Mill St., Madras, OR 97741.
071368 | Nufarm, Inc., 500 Lower Lake Rd., St. Joseph, MO 64504.
071768 | Chemarmor, 625 North Ave.W., Box 4363, Missoula, MT 59806.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before December 2, 2002. This written withdrawal of the request for cancellation will apply only to the applicable FIFRA section 6(f)(1) request listed in this notice.If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: May 14, 2002.
Linda Vlier Moos,
Acting Director, Information Resources Services Division, Office of Pesticide Programs.

[FR Doc. 02-13811 Filed 5-31-02; 8:45 am]

BILLING CODE 6560-50-S